COMMISSION ON CIVIL RIGHTS

Sunshine Act Notice

AGENCY: United States Commission on Civil Rights.

ACTION: Notice of meeting.

Date and Time: Tuesday, August 19, 2008; 9:30 a.m.

Place: U.S. Commission on Civil Rights, 624 Ninth Street, NW., Rm. 540, Washington, DC 20425.

Meeting Agenda

I. Approval of Agenda

II. Approval of Minutes

• July 11, 2008 Meeting

• July 28, 2008 Meeting

III. Announcements

IV. Staff Director's Report

V. Program Planning

• 2009 Briefing Topics

• 2009 Statutory Report Topics

• Discussion of FY 2010 Budget Submission

VI. Management and Operations

• Evaluation of AI on Order of Precedence

VII. State Advisory Committee Issues

• Discussion of SAC re-charter process

VIII. Future Agenda Items

IX. Adjourn

Contact Person for Further Information: Lenore Ostrowsky, Acting Chief, Public Affairs Unit (202) 376-8582.

Dated: August 7, 2008.
David Blackwood,
General Counsel.

[FR Doc. E8-18603 Filed 8-7-08; 4:15 pm]

BILLING CODE 6335-01-P